DEPARTMENT OF TRANSPORTATION

Office of the Secretary

[Docket No. OST-2005-21074]

Notice of Request for Extension of a Previously Approved Collection

AGENCY: Office of the Secretary, DOT.

ACTION: Notice and request for comments.

SUMMARY: In accordance with the Paperwork Reduction Act of 1995 (44 U.S.C. 3501 et. seq.), this notice announces that the Information Collection Request (ICR) abstracted below has been forwarded to the Office of Management and Budget (OMB) for review and approval. The ICR describes the nature of the information collection and its expected cost and burden. The Federal Register Notice with a 60-day comment period soliciting comments on the following collection of information was published on April 29, 2005 [FR Vol. 70, No. 82, pages 22388 and 22389]. No comments were received.

DATES: Comments on this notice must be received by November 18, 2005 attention DOT/OST Desk Officer, Office of Information and Regulatory Affairs, Office of Management and Budget, Docket Library, Room 10102, 725 17th Street, NW., Washington, DC 20503.

FOR FURTHER INFORMATION CONTACT: Ms. Torlanda Archer (202) 366-1037, Office of International Aviation, Office of the Secretary, Department of Transportation, 400 Seventh Street, SW., Washington, DC 20590.

SUPPLEMENTARY INFORMATION: Title: Public Charter Rules.

OMB Control Number: 2106-0005.

Summary: The collection involved here under 14 CFR Part 380 requires the charter operator, direct air carrier and financial institution(s) involved to certify that proper financial instruments are in place or other arrangements have been made to protect the charter participants' funds and that all parties will abide by the Department's Public Charter regulations.

Respondents: Public Charter Operators.

Estimated Total Burden on Respondents: 1,290 hours.

Comments are invited on: (a) Whether the continued collection of information is necessary for the proper performance of the functions of the Office of International Aviation, including whether the information will have practical utility; (b) the accuracy of the Office of International Aviation's estimate of the burden of the current information collection; (c) ways to enhance the quality, utility and clarity of the information being collected; and (d) ways to minimize the burden of the collection of information on respondents, including the use of automated collection techniques or other forms of information technology.

All responses to this notice will be summarized and included in the request for OMB approval. All comments will also become a matter of public record.

Issued in Washington, DC on October 12, 2005.
Steven Lott,
Manager, Strategic Integration, IT Investment Management Office.

[FR Doc. 05-20898 Filed 10-18-05; 8:45 am]

BILLING CODE 4910-62-P